DEPARTMENT OF HOMELAND SECURITY

Coast Guard

[Docket No. USCG-2011-1106]

Dynamic Positioning Operations Guidance for Vessels Other Than Mobile Offshore Drilling Units Operating on the U.S. Outer Continental Shelf

AGENCY: Coast Guard, DHS.

ACTION: Notice of Recommended Interim Voluntary Guidance.

SUMMARY: On May 4, 2012 the Coast Guard published a notice of recommended interim voluntary guidance titled “Mobile Offshore Drilling Unit Dynamic Positioning Guidance”. The notice recommended owners and operators of Mobile Offshore Drilling Units (MODUs) follow Marine Technology Society (MTS) Dynamic Positioning (DP) operations guidance for MODUs. The Coast Guard is now also recommending owners and operators of all vessels other than MODUs conducting Outer Continental Shelf (OCS) activities on the U.S. OCS follow the appropriate MTS DP operations guidance for these vessels. In particular, the Coast Guard recommends owners and operators of these vessels operate within an Activity Specific Operating Guideline for each activity and operate with its Critical Activity Mode of Operation when that activity is critical.

DATES: The policy outlined in this document is effective October 12, 2012.

ADDRESSES: This notice and the documents referenced within are available in the docket and can be viewed by going to www.regulations.gov, inserting USCG-2011-1106 in the “Keyword” box, and then clicking “Search.” The recommended interim voluntary guidance titled “Mobile Offshore Drilling Unit (MODU) Dynamic Positioning (DP) Guidance” is also available at www.uscg.mil and can be viewed by clicking the link to the Office of Design and Engineering Standards (CG-ENG) under the “Units,” “USCG Headquarters Organization,” and “CG-5P” tabs, and scrolling down to “Policy Documents.”

FOR FURTHER INFORMATION CONTACT: If you have questions on this notice or the policy, call or email Commander Joshua Reynolds, Office of Design and Engineering Standards, Human Element and Ship Design Division (CG-ENG-1), telephone (202) 372-1355, or email Joshua.D.Reynolds@uscg.mil. If you have questions on viewing material in the docket, call Renee V. Wright, Program Manager, Docket Operations, telephone 202-366-9826.

SUPPLEMENTARY INFORMATION:

Background and Intent To Publish Rule

On July 7, 2010, in response to a request from the Coast Guard, the National Offshore Safety Advisory Committee (NOSAC) issued the report “Recommendations for Dynamic Positioning System Design and Engineering, Operational and Training Standards”. The report recommended the Coast Guard establish minimum Dynamic Positioning (DP) reliability standards and contained draft guidance from the Marine Technology Society (MTS) DP Committee for Mobile Offshore Drilling Units (MODUs), logistics and construction vessels, which the MTS has since completed. On May 4, 2012, the Coast Guard published a notice of recommended interim voluntary guidance titled “Mobile Offshore Drilling Unit Dynamic Positioning Guidance” 77 FR 26562. The notice highlighted that DP incidents on MODUs can result in severe consequences including loss of life, pollution, and property damage and recommended owners and operators of MODUs follow MTS DP operations guidance for MODUs. In particular, the Coast Guard recommended owners and operators of MODUs operate within a Well Specific Operating Guideline (WSOG) while attached to the seafloor of the U.S. Outer Continental Shelf (OCS) and operate within its Critical Activity Mode of Operations (CAMO) during critical activities.

The Coast Guard recognizes that DP incidents on logistics and construction vessels also can result in severe consequences. Because of this potential, and the recommendation from the NOSAC to set minimum DP reliability standards, the Coast Guard intends to publish a rule that addresses minimum DP design and operating standards for all vessels conducting OCS activities using DP on the U.S. OCS.

Interim Voluntary DP Guidance

Until such time as there is a regulatory requirement, the Coast Guard recommends owners and operators of all vessels other than MODUs conducting OCS activities on the U.S. OCS voluntarily follow guidance provided in the “DP Operations Guidance Prepared through the Dynamic Positioning Committee of the Marine Technology Society to aid in the safe and effective management of DP Operations”, Part 2, Appendix 2, DP Project/Construction Vessels (July 2012)” or “Appendix 3, DP Logistics vessels (July 2012)” as appropriate. These documents are available at http://www.dynamic-positioning.com/dp_operations_guidance.cfm. In particular, the Coast Guard recommends owners and operators of these vessels operate within an Activity Specific Operating Guideline (ASOG) for each OCS activity and operate within the vessel's CAMO when that OCS activity is critical. Each ASOG should clearly state whether the activity it covers is critical. The Coast Guard further recommends that any vessel engaged in DP Simultaneous Operations (SIMOPS) follow applicable WSOGs and/or ASOGs for DP SIMOPS and operate within their respective CAMOs.

The guidance contained in the notice is not a substitute for applicable legal requirements, nor is it itself a regulation. It is not intended to nor does it impose legally binding requirements on any party. It represents the Coast Guard's current thinking on this topic and may assist industry, mariners, the general public, and the Coast Guard, as well as other Federal and State regulators, in applying statutory and regulatory requirements. You can use an alternative approach if the approach satisfies the requirements of the applicable statutes and regulations.

Authority: This notice is issued under the authority of 5 U.S.C. 552(a), 43 U.S.C. 1331, et seq., and 33 CFR 1.05-1.

Dated: October 2, 2012.
J.G. Lantz,
Director of Commercial Regulations and Standards, U.S. Coast Guard.

[FR Doc. 2012-25132 Filed 10-11-12; 8:45 am]

BILLING CODE 9110-04-P